DEPARTMENT OF THE INTERIOR

Bureau of Land Management

[LLID933000.L14300000.FR0000; IDI-35568]

Notice of Correction to Notice of Application for Recordable Disclaimer of Interest in Lands, Bingham County, ID

AGENCY: Bureau of Land Management, Interior.

ACTION: Notice of correction.

SUMMARY: This Notice corrects a Notice of Application for a Recordable Disclaimer of Interest from Randy Lynne Jackson, personal representative of the estate of Donald F. Jackson, deceased. The BLM published the original notice on Monday, December 22, 2008 [73 FR 78388]. The original notice included a metes and bounds legal description which contained several errors.

FOR FURTHER INFORMATION CONTACT: Laura Summers, (208) 373-3866.

SUPPLEMENTARY INFORMATION: The erroneous legal land description is replaced with the following corrected legal land description:

Commencing at the northwest corner of section 6; thence along the north line of section 6, S89°16′44″ E 3507.82 feet to a meander corner at the intersection with the right bank meander line of the Snake River as surveyed in 1925 by H.G. Bardsley, Cadastral Engineer, during performance of the U.S.G.L.O. Survey and Retracement or Resurvey of portions of the North and West boundaries and Survey of Meanders in Township 4 South, Range 34 East, Boise Meridian, marked by a 1925 G.L.O. Brass Cap Monument as recorded in the field notes for this survey and the TRUE POINT OF BEGINNING; thence southwesterly along the right bank meander line by the following courses (these courses are rotated to the basis of bearings in the 1925 survey and have been translated from chains to feet as requested by Idaho Department of Lands.): Thence S19°12′49″ W 133.32 feet; thence S30°25′16″ W 660.00 feet; thence S50°00′14″ W 517.37 feet; thence S51°56′03″ W 142.69 feet; thence S59°25′16″ W 297.00 feet; thence S86°25′16″ W 198.00 feet; thence N82°34′44″ W 198.00 feet; thence S54°25′16″ W 224.40 feet; thence S75°25′16″ W 330.00 feet; thence S88°25′16″ W 191.65 feet to a point of intersection with the westerly boundary of the land described in Quitclaim Deed instrument numbers 490751 and 490752, and depicted graphically on a Record of Survey on file in the Bingham County Courthouse, Blackfoot, Idaho; thence along the westerly boundary S00°42′23″ W 2154.37 feet to a point on the ordinary high water line of the right bank of the Snake River, monumented with a 1/2″x24″ iron pin with red plastic cap marked PLS 9168; thence upstream along the ordinary high water mark of the right bank of the main channel of the Snake River S87°01′43″ E 252.50 feet; thence N74°48′08″ E 313.19 feet; thence N67°48′08″ E 243.19 feet; thence N63°21′08″ E 250.02 feet; thence N54°28′37″ E 363.79 feet; thence N41°51′36″ E 150.62 feet; thence N50°54′43″ E 611.67 feet; thence N28°19′06″ E 138.83 feet; thence N46°39′55″ E 336.07 feet; thence N32°16′59″ E 292.13 feet; thence N24°27′36″ E 188.15 feet; thence N19°03′54″ E 241.69 feet; thence N00°00′00″ E 79.90 feet; thence N13°00′02″ E 175.78 feet; thence N06°36′36″ E 357.80 feet; thence N06°27′46″ W 727.79 feet; thence N12°12′18″ W 271.35 feet to intersection with the north line of section 6; thence along the section line N74°52′56″ W 189.82 feet to the TRUE POINT OF BEGINNING.

Jerry L. Taylor,
Chief, Branch of Lands, Minerals and Water Rights Resource Services Division.

[FR Doc. E9-22443 Filed 9-16-09; 8:45 am]

BILLING CODE 4310-GG-P